DEPARTMENT OF TRANSPORTATION

National Highway Traffic Safety Administration

49 CFR Parts 567, 571, 574 and 575

[Docket No. NHTSA-00-8011]

RIN 2127-AI54

Federal Motor Vehicle Safety Standards; Tires

AGENCY: National Highway Traffic Safety Administration (NHTSA), Department of Transportation.

ACTION: Extension of comment period.

SUMMARY: NHTSA has received a petition asking the agency to extend the comment period for its proposal to establish new and more stringent tire performance requirements in a new Federal motor vehicle safety standard. The standard would apply to all new tires for use on vehicles with a gross vehicle weight rating of 10,000 pounds or less. In the proposal, NTHSA established a deadline for the submission of written comments of May 6, 2002. In light of that petition and the need to ensure that all interested parties have a sufficient amount of time to fully develop their comments, the agency is extending the deadline for the submission of written comments.

DATES: Written comments must be received by June 5, 2002.

ADDRESSES: You may submit your comments in writing to: Docket Management, Room PL-401, 400 Seventh Street, SW., Washington, DC, 20590. Alternatively, you may submit your comments electronically by logging onto the Docket Management System website at http://dms.dot.gov. Click on “Help & Information” or “Help/Info” to view instructions for filing your comments electronically. Regardless of how you submit your comments, you should mention the docket number of this document.

FOR FURTHER INFORMATION CONTACT: For technical and policy issues: Mr. George Soodoo or Mr. Joseph Scott, Office of Crash Avoidance Standards, National Highway Traffic Safety Administration, 400 Seventh Street, SW., Washington, DC, 20590. Telephone: (202) 366-2720. Fax: (202) 366-4329.

For legal issues: Nancy Bell, Attorney Advisor, Office of the Chief Counsel, NCC-20, National Highway Traffic Safety Administration, 400 Seventh Street, SW, Washington, DC, 20590. Telephone: (202) 366-2992. Fax: (202) 366-3820.

SUPPLEMENTARY INFORMATION: The agency issued the notice of proposed rulemaking pursuant to the Transportation Recall Enhancement, Accountability, and Documentation (TREAD) Act, Pub. L. 106-414. The NPRM was published on Tuesday, March 5, 2002 (67 FR 10050). Section 10 of the Act directs the Secretary of Transportation to conduct a rulemaking to revise and update the tire safety standards published at 49 CFR 571.109 and 571.119, and to complete the rulemaking, i.e., issue a final rule, by June 1, 2002.

The Rubber Manufacturers Association, which represents manufacturers of finished rubber products, including tire manufacturers, has petitioned for an extension of the comment period on the notice of proposed rulemaking (NPRM). RMA said that it was requesting an extension so that it can complete the testing contemplated in a test matrix it has designed to generate data that will enable it to analyze tire temperature as a function of load, inflation pressure and speed relationships and so that it can then evaluate the results of that testing. The RMA's petition and its test matrix have been submitted to the above-mentioned docket.

In considering the extension request, NHTSA weighed the statutory deadline, the complexity and importance of this rulemaking, and the basis for the request. The agency does not wish to inhibit the ability of any party to fully develop useful technical information and seeks to provide additional time for all interested parties to prepare and submit useful information. Consequently, NHTSA believes that it is in the best interest of all parties involved to extend the period for the submission of written comments in this proceeding to June 5, 2002.

However, given the statutory deadline, NHTSA wishes to note that it does not anticipate granting any further extensions of the comment period in this proceeding. Please note also that the agency will consider comments submitted after June 5, 2002, only to the extent that it is possible to do so without causing additional expense or delay.

Issued: April 23, 2002.
Stephen R. Kratzke,
Associate Administrator for Safety Performance Standards.

[FR Doc. 02-10406 Filed 4-26-02; 8:45 am]

BILLING CODE 4910-59-P